DEPARTMENT OF THE INTERIOR

Bureau of Land Management

[LLNVE02000.L51100000.GN0000.LVEMF1503680; MO # 4500080339]

Notice of Intent To Prepare an Environmental Impact Statement for the Proposed Rossi Mine Expansion Project, Elko County, NV

AGENCY: Bureau of Land Management, Interior.

ACTION: Notice.

SUMMARY: In compliance with the National Environmental Policy Act (NEPA) of 1969, as amended, and the Federal Land Policy and Management Act (FLPMA) of 1976, as amended, the Bureau of Land Management (BLM) Tuscarora Field Office, Elko, Nevada, intends to prepare an Environmental Impact Statement (EIS) and by this notice is announcing the beginning of the scoping process to solicit public comments and identify issues. The BLM is also soliciting public comments regarding archaeological resources and Native American traditional and cultural values under the National Historic Preservation Act (NHPA).

DATES: Comments on issues may be submitted in writing until October 9, 2015. The date(s) and location(s) of any scoping meetings will be announced at least 15 days in advance through local media, newspapers and the BLM Web site at: http://www.blm.gov/nv/st/en/fo/elko_field_office.html. In order to be included in the Draft EIS, all comments must be received prior to the close of the scoping period or 15 days after the last public meeting, whichever is later. Additional opportunities for public participation will be available upon the publication of the Draft EIS.

ADDRESSES: You may submit comments related to the Rossi Mine Expansion Project by any of the following methods:

• Web site: http://www.blm.gov/nv/st/en/fo/elko_field_office.html.

• Email: blm_nv_eldo_rossimine_project_eis@blm.gov.

• Fax: 775-753-0255.

• Mail: BLM Tuscarora Field Office, Attn. Janice Stadelman, 3900 Idaho Street, Elko, NV 89801.

Documents pertinent to this proposal may be examined at the Tuscarora Field Office.

FOR FURTHER INFORMATION CONTACT: For further information and/or to have your name added to our mailing list, contact Janice Stadelman, Project Lead, telephone: 775-753-0346; address: 3900 Idaho Street, Elko, NV 89801; Email: blm_nv_eldo_rossimine_project_eis@blm.gov.

SUPPLEMENTARY INFORMATION: Halliburton Energy Services, Inc. (Halliburton) submitted a plan of operations amendment, titled Rossi Mine Expansion Project, to the BLM to approve as proposed the expansion of the existing Rossi Mine. The Rossi Mine Expansion Project is an amendment to the existing Plan of Operations. The proposed action consists of the expansion of the project boundary area; expansion of the existing open pits and development of new open pits; expansion of existing waste rock disposal facilities and construction of new waste rock disposal facilities; expansion of the tailing ponds; expansion and development of haul roads, exploration roads, and access roads, including a public access road; additional exploration; and ancillary facilities. The Rossi Mine is a barite mine that has been in operation since 1947. Currently, the Rossi Mine disturbs approximately 912 acres, of which 201 acres are on private and 711 acres are on public land. The proposed disturbance acreage would be an additional 1,211 acres (7 private; 1,204 public) for a total disturbance of 2,123 acres (208 private; 1,915 public). The proposed action would expand the mine life for 8 years. The proposed project is located approximately 50 miles northeast of Battle Mountain, Nevada, in Elko County. Employment at the Rossi Mine fluctuates based on the demand for barite. Halliburton employs 24 to 60 people at the jig plant. The mining contractor employs an additional 60 to 300 people.

The purpose of the public scoping process is to determine relevant issues that will influence the scope of the environmental analysis, including alternatives, and guide the process for developing the EIS. At present, the BLM has identified the following preliminary issues: Archaeological resources, grazing, Native American traditional and cultural values, potential pit lakes and the benefits of backfilling open pits, and wildlife, including mule deer migration corridors and sage-grouse habitat.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Deborah N. McFarlane,
Acting Field Manager, Tuscarora Field Office.

[FR Doc. 2015-22655 Filed 9-8-15; 8:45 am]

BILLING CODE 4310-HC-P